DEPARTMENT OF COMMERCE

Patent and Trademark Office

Submission for OMB Review; Comment Request

The United States Patent and Trademark Office (USPTO) will submit to the Office of Management and Budget (OMB) for clearance the following proposal for collection of information under the provisions of the Paperwork Reduction Act (44 U.S.C. Chapter 35).

Agency: United States Patent and Trademark Office (USPTO).

Title: Post Registration (Trademark Processing).

Form Number(s): PTO-1583, PTO/TM/1583, PTO-1597, PTO-1963, PTO-4.16, PTO/TM/4.16.

Agency Approval Number: 0651-0055.

Type of Request: Revision of a currently approved collection.

Burden: 21,097 hours annually, including 1,349 hours per year for Section 7 Requests.

Number of Respondents: 133,587 responses per year, including 3,800 responses per year for Section 7 Requests.

Avg. Hours Per Response: The USPTO estimates that the public will require approximately 20 to 23 minutes (0.33 to 0.38 hours) to supply the information required for a Section 7 Request, depending upon the amount and type of information requested in a particular case.

Needs and Uses: This collection of information is required by the Trademark Act, 15 U.S.C. 1051 et seq., which provides for the Federal registration of trademarks, service marks, collective trademarks and service marks, collective membership marks, and certification marks. Individuals and businesses that use or intend to use such marks in commerce may file an application to register their marks with the United States Patent and Trademark Office (USPTO). Such individuals and businesses may also submit various communications to the USPTO, including requests to correct or amend their registrations.

The USPTO is proposing to add one form to this information collection for Section 7 Requests (PTO-1597). Registrants may use a Section 7 Request to request a correction or amendment to the information appearing on the certificate of registration. Requests for changes that would result in a material alteration of the registration are not permitted under Section 7. Registrants may submit the proposed new form to the USPTO electronically through the USPTO Web site or submit the required information for the Section 7 Request to the USPTO on paper.

Affected Public: Individuals or households, businesses or other for-profits, and not-for-profit institutions.

Frequency: On occasion.

Respondent's Obligation: Required to obtain or retain benefits.

OMB Desk Officer: David Rostker, (202) 395-3897.

Copies of the above information collection proposal can be obtained by any of the following methods:

• E-mail: Susan.Fawcett@uspto.gov. Include “0651-0055 copy request” in the subject line of the message.

• Fax: 571-273-0112, marked to the attention of Susan Fawcett.

• Mail: Susan K. Fawcett, Records Officer, Office of the Chief Information Officer, Customer Information Services Group, Public Information Services Division, United States Patent and Trademark Office, P.O. Box 1450, Alexandria, VA 22313-1450.

Written comments and recommendations for the proposed information collection should be sent on or before March 3, 2008 to David Rostker, OMB Desk Officer, Room 10202, New Executive Office Building, 725 17th Street, NW., Washington, DC 20503.

Dated: January 24, 2008.
Susan K. Fawcett,
Records Officer, USPTO, Office of the Chief Information Officer, Customer Information Services Group, Public Information Services Division.

[FR Doc. E8-1727 Filed 1-30-08; 8:45 am]

BILLING CODE 3510-16-P